DEPARTMENT OF STATE

[Delegation of Authority No. 325]

Delegation by the Deputy Secretary of the Authorities of the Under Secretary for Arms Control and International Security to Rose E. Gottemoeller

By virtue of the authority vested in the Secretary by the laws of the United States, including the Foreign Assistance Act of 1961, the Arms Export Control Act, the Foreign Affairs Reform and Restructuring Act of 1998, and the State Department Basic Authorities Act, as amended (22 U.S.C. 2651a), and delegated to me by Delegation of Authority 245-1, dated February 13, 2009, I hereby delegate to Rose E. Gottemoeller, Assistant Secretary for Verification, Compliance, and Implementation, to the extent authorized by law, all authorities. vested in the Under Secretary of State for Arms Control and International Security, including all authorities vested in the Secretary of State that have been or may be delegated to that Under Secretary.

Any authority covered by this delegation may also be exercised by the Secretary of State, the Deputy Secretary of State, the Deputy Secretary of State for Management and Resources, the Under Secretary for Political Affairs and the Under Secretary for Management.

This delegation shall expire upon the appointment and entry upon duty of an individual to serve as the Under Secretary of State for Arms Control and International Security.

Delegation of Authority No. 321, dated January 16, 2009, is hereby revoked. With this exception, nothing in this delegation of authority shall be deemed to supersede any other delegation of authority, which shall remain in full force and effect during and after this delegation.

This delegation of authority shall be published in the Federal Register.

Dated: April 17, 2009.
James B. Steinberg,
Deputy Secretary, Department of State.

[FR Doc. E9-10348 Filed 5-4-09; 8:45 am]

BILLING CODE 4710-27-P